NATIONAL AERONAUTICS AND SPACE ADMINSTRATION

[Notice (05-089)]

Return to Flight Task Group; Meeting

AGENCY: National Aeronautics and Space Administration (NASA).

ACTION: Notice of meeting.

SUMMARY: In accordance with the Federal Advisory Committee Act, Public Law 92-463, as amended, the National Aeronautics and Space Administration announces a meeting of the Return to Flight Task Group (RTF TG).

DATES: Wednesday, June 8, 2005, from 8 a.m. until noon central daylight time.

ADDRESSES: Webster Civic Center, 311 Pennsylvania Avenue, Webster, Texas 77598.

FOR FURTHER INFORMATION CONTACT: Mr. Vincent D. Watkins at (281) 792-7523.

SUPPLEMENTARY INFORMATION: The meeting will be open to the public up to the seating capacity of the meeting room. Attendees will be requested to sign a register. Live audio of the meeting will be available on the Internet at: http://returntoflight.org.

The agenda for the meeting is as follows:

—Welcome remarks from Co-Chair.

—Discussion of status of NASA's implementation of selected Columbia Accident. Investigation Board return to flight recommendations.

—Action item summary from Executive Secretary.

—Closing remarks from Co-Chair.

It is imperative that the meeting be held on this date to accommodate the scheduling priorities of the key participants.

Dated: May 11, 2005.
P. Diane Rausch,
Advisory Committee Management Officer, National Aeronautics and Space Administration.

[FR Doc. 05-9801 Filed 5-16-05; 8:45 am]

BILLING CODE 7510-13-P